DEPARTMENT OF COMMERCE

United States Patent and Trademark Office

37 CFR Part 6

[Docket No. 010827218-1218-01]

RIN 0651-AB42

International Trademark Classification Changes

AGENCY: United States Patent and Trademark Office, Commerce.

ACTION: Final rule.

SUMMARY: The United States Patent and Trademark Office (Office) issues a final rule to incorporate classification changes adopted by the Nice Agreement Concerning the International Classification of Goods and Services for the Purposes of the Registration of Marks. These changes will become effective January 1, 2002, and will be listed in the International Classification of Goods and Services for the Purposes of the Registration of Marks (8th ed., 2001), which is published by the World Intellectual Property Organization (WIPO).

DATES: This final rule is effective January 1, 2002.

FOR FURTHER INFORMATION CONTACT: Jessie Marshall, Office of the Commissioner for Trademarks, by telephone at (703) 308-8910, ext. 148; by facsimile transmission addressed to her at (703) 308-9395; by e-mail addressed to her at Jessie.Marshall@USPTO.gov; or by mail marked to her attention and addressed to the Commissioner for Trademarks, 2900 Crystal Drive, Arlington, Virginia 22202-3513.

SUPPLEMENTARY INFORMATION:

Discussion of Specific Rules Changed or Added

The Office is revising § 6.1 to incorporate classification changes that will become effective January 1, 2002, as will be listed in the International Classification of Goods and Services for the Purposes of the Registration of Marks (8th ed., 2001), published by the World Intellectual Property Organization (WIPO).

These revisions have been incorporated into the Nice Agreement Concerning the International Classification of Goods and Services for the Purposes of the Registration of Marks. As a signatory to the Nice Agreement, the United States adopts these revisions pursuant to Article 1.

The purpose of the Nice Classification is to group, to the fullest extent possible, like goods or services into a single class. Generally, the system is successful in achieving that purpose. However, over the years, it became apparent that Class 42 included many disparate services due to the inclusion of the language “services that cannot be classified in other classes” in the class title. This language allowed services as different as chemical research and horoscope casting to be included in the class. Therefore, after much study and discussion, the Committee of Experts for the Nice Agreement approved the restructuring of Class 42. The subsequent restructuring limited the scope of the services in Class 42, created three additional classes that accounted for services formerly grouped in Class 42, and excluded the language “services that cannot be classified in other classes” in any of the new or old service classes. The Committee of Experts found that the revision of Class 42 created an adequate number of well-defined classes so that this language was no longer necessary in the class headings or explanatory notes of the Nice Agreement.

Along with the creation of the new classes and their class headings, the Committee of Experts approved the following Explanatory Notes for each class to clarify the nature of the services encompassed by the class heading.

Class 42

Scientific and technological services and research and design relating thereto; industrial analysis and research services; design and development of computer hardware and software; legal services.

Explanatory Note

Class 42 includes mainly services provided by persons, individually or collectively, in relation to the theoretical and practical aspects of complex fields of activities; such services are provided by members of professions such as chemists, physicists, engineers, computer specialists, lawyers, etc.

This Class includes, in particular:

• The services of engineers who undertake evaluations, estimates, research and reports in the scientific and technological fields;

• Scientific research services for medical purposes.

This Class does not include, in particular:

• Business research and evaluations (Cl. 35);

• Word processing and computer file management services (Cl. 35);

• Financial and fiscal evaluations (Cl. 36);

• Mining and oil extraction (Cl. 37);

• Computer (hardware) installation and repair services (Cl. 37);

• Services provided by the members of professions such as medical doctors, veterinary surgeons, psychoanalysts (Cl. 44);

• Medical treatment services (Cl. 44);

• Garden design (Cl. 44).

Class 43

Services for providing food and drink; temporary accommodations.

Explanatory Note

Class 43 includes mainly services provided by persons or establishments whose aim is to prepare food and drink for consumption and services provided to obtain bed and board in hotels, boarding houses or other establishments providing temporary accommodations.

This Class includes, in particular:

• Reservation services for travellers' accommodations, particularly through travel agencies or brokers;

• Boarding for animals.

This Class does not include, in particular:

• Rental services for real estate such as houses, flats, etc., for permanent use (Cl. 36);

• Arranging travel by tourist agencies (Cl. 39);

• Preservation services for food and drink (Cl. 40);

• Discotheque services (Cl. 41);

• Boarding schools (Cl. 41);

• Rest and convalescent homes (Cl. 44).

Class 44

Medical services; veterinary services; hygienic and beauty care for human beings or animals; agriculture, horticulture and forestry services.

Explanatory Note

Class 44 includes mainly medical, hygienic, and beauty care given by persons or establishments to human beings and animals; it also includes services relating to the fields of agriculture, horticulture and forestry.

This Class includes, in particular:

• Medical analysis services relating to the treatment of persons (such as x-ray examinations and taking of blood samples);

• Artificial insemination services;

• Pharmacy advice;

• Animal breeding;

• Services relating to the growing of plants such as gardening;

• Services relating to floral art such as floral compositions as well as garden design.

This Class does not include, in particular:

• Vermin extermination (other than for agriculture, horticulture and forestry) (Cl. 37);

• Installation and repair services for irrigation systems (Cl. 37);

• Ambulance transport (Cl. 39);

• Animal slaughtering services and taxidermy (Cl. 40);

• Timber felling and processing (Cl. 40);

• Animal training services (Cl. 41);

• Health clubs for physical exercise (Cl. 41);

• Scientific research services for medical purposes (Cl. 42);

• Boarding for animals (Cl. 43);

• Retirement homes (Cl. 43).

Class 45

Personal and social services rendered by others to meet the needs of individuals; security services for the protection of property and individuals.

Explanatory Note

This Class includes, in particular:

• Investigation and surveillance services relating to the safety of persons and entities;

• Services provided to individuals in relation with social events, such as social escort services, matrimonial agencies, and funeral services.

This Class does not include, in particular:

• Professional services giving direct aid in the operations or functions of a commercial undertaking (Cl. 35);

• Services relating to financial or monetary affairs and services dealing with insurance (Cl. 36);

• Escorting of travellers (Cl. 39);

• Security transport (Cl. 39);

• Services consisting of all forms of education of persons (Cl. 41);

• Performances of singers and dancers (Cl. 41);

• Legal services (Cl. 42);

• Services provided by others to give medical, hygienic or beauty care for human beings or animals (Cl. 44);

• Certain rental services (consult the Alphabetical List of Services and General Remark (b) relating to the classification of services).

Rulemaking Requirements

Administrative Procedure Act: The amendments in this final rule are procedural in nature as they only reorganize the international classifications of goods and services, which are established by the Committee of Experts of the Nice Union and will be promulgated in the volume entitled International Classification of Goods and Services for the Purposes of the Registration of Marks (8th ed. 2002). Therefore, prior notice and an opportunity for public comment are not required pursuant to 5 U.S.C. 553(b)(A), or any other law. Furthermore, pursuant to 5 U.S.C. 553(b)(B), notice and an opportunity for public comment are unnecessary since the amendments are required by the Nice Agreement to which the United States is a signatory.

Regulatory Flexibility Act: As prior notice and an opportunity for public comment are not required pursuant to 5 U.S.C. 553 (or any other law), the analytical requirements of the Regulatory Flexibility Act (5 U.S.C. 601 et seq.) are inapplicable.

Executive Order 13132: This final rule does not contain policies with federalism implications, as that term is defined in Executive Order 13132 (August 4, 1999).

Executive Order 12866: This final rule has been determined to be not significant for purposes of Executive Order 12866 (September 30, 1993).

Paperwork Reduction Act: This final rule does not involve information collection requirements which are subject to review by the Office of Management and Budget (OMB) under the Paperwork Reduction Act of 1995 (44 U.S.C. 3501 et seq.).

List of Subjects in 37 CFR Part 6

Trademarks.

For the reasons given in the preamble and under the authority contained in 35 U.S.C. 2 and 15 U.S.C. 41, as amended, the United States Patent and Trademark Office is amending part 6 of title 37 as follows:

PART 6—CLASSIFICATION OF GOODS AND SERVICES UNDER THE TRADEMARK ACT

1. The authority citation for part 6 continues to read as follows:

Authority: 15 U.S.C. 1112, 1123; 35 U.S.C. 2, unless otherwise noted.

2. Section 6.1 is amended by revising paragraph 42, and adding paragraphs 43, 44, and 45, to read as follows:

§ 6.1 International schedule of classes of goods and services.

Goods

* * * * *

42. Scientific and technological services and research and design relating thereto; industrial analysis and research services; design and development of computer hardware and software; legal services.

43. Services for providing food and drink; temporary accommodations.

44. Medical services; veterinary services; hygienic and beauty care for human beings or animals; agriculture, horticulture and forestry services.

45. Personal and social services rendered by others to meet the needs of individuals; security services for the protection of property and individuals.

Dated: September 14, 2001.
Nicholas P. Godici,
Acting Under Secretary of Commerce for Intellectual Property and Acting Director of the United States Patent and Trademark Office.

[FR Doc. 01-23454 Filed 9-19-01; 8:45 am]

BILLING CODE 3510-16-P